TENNESSEE VALLEY AUTHORITY

Meeting of the Regional Energy Resource Council

AGENCY: Tennessee Valley Authority (TVA).

ACTION: Notice of meeting.

SUMMARY: The TVA Regional Energy Resource Council (RERC) will hold a virtual meeting on Tuesday, May 18, 2021, regarding regional energy related issues in the Tennessee Valley.

DATES: The meeting will be held on Tuesday, May 18, 2021, from 9:00 a.m. to 2:00 p.m. EDT.

ADDRESSES: The meeting is virtual and open to the public. Public members must preregister at the following link: https://bit.ly/RERC-May. Anyone needing special accommodations should let the contact below know at least a week in advance.

FOR FURTHER INFORMATION CONTACT: Cathy Coffey, ccoffey@tva.gov or 865/632-4494.

SUPPLEMENTARY INFORMATION: The RERC was established to advise TVA on its energy resource activities and the priorities among competing objectives and values. Notice of this meeting is given under the Federal Advisory Committee Act (FACA), 5 U.S.C. App.2.

The meeting agenda includes the following:

1. Welcome and Introductions

2. Public Listening Session

3. TVA Update

4. Presentation Regarding TVA's Asset Planning

5. Presentation on Carbon Strategy

6. Innovation Initiatives

7. Council Discussion

The RERC will hear views of citizens at a 30-minute public listening session at 9:30 a.m. EDT, that day. Persons wishing to speak must register at ccoffey@tva.gov by 5:00 p.m. EDT, on Monday, May 17, 2021, and will be called on during the public listening session for up to two minutes to share their views. Written comments also are invited and may be mailed to the Regional Energy Resource Council, Tennessee Valley Authority, 400 West Summit Hill Drive, WT 9D, Knoxville Tennessee 37902.

Dated: April 26, 2021.
The DFO of the Tennessee Valley Authority and Vice President of External Strategy & Regulatory Affairs, Melanie Farrell, having reviewed and approved this document, is delegating the authority to sign this document to Cathy Coffey, Senior Program Manager of Stakeholder Relations, for purposes of publication in the Federal Register.
Cathy Coffey,
Stakeholder Relations, Tennessee Valley Authority.

[FR Doc. 2021-09067 Filed 4-29-21; 8:45 am]

BILLING CODE 8120-08-P